DEPARTMENT OF THE INTERIOR

National Park Service

[NPS-WASO-NRNHL-DTS#-41030; PPWOCRADI0, PCU00RP14.R50000]

National Register of Historic Places; Notification of Pending Nominations and Related Actions

AGENCY: National Park Service, Interior.

ACTION: Notice.

SUMMARY: The National Park Service is soliciting electronic comments on the significance of properties nominated before August 23, 2025, for listing or related actions in the National Register of Historic Places.

DATES: Comments should be submitted electronically by October 14, 2025.

ADDRESSES: Comments are encouraged to be submitted electronically to National_Register_Submissions@nps.gov with the subject line “Public Comment on >property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before August 23, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

ARIZONA

Cochise County

Warren Historic District, Generally bounded by Bisbee Road and Cole Avenue to the North, Adsit Street to the east and south, and Central Avenue to the west. Bisbee, SG100012280

CALIFORNIA

Los Angeles County

Los Angeles County Law Library, 301 W 1st Street, Los Angeles, SG100012283

San Francisco County

Huntington Hotel, 1075 California Street, San Francisco, SG100012288

Sonoma County

Railroad Square District (Boundary Decrease), Bounded by Third, Davis, Wilson, Fifth and Sixth Streets and the Santa Rosa Creek, Santa Rosa, BC100012291

IDAHO

Shoshone County

Nine Mile Cemetery, (Metal Mining in Idaho (1860-1977) MPS), 1001 Nine Mile Creek Road, Wallace vicinity, MP100012276

ILLINOIS

Iroquois County

Watseka Downtown Historic District, Roughly bound by First, Oak, Walnut, Fifth, and Union Pacific Railroad, Watseka, SG100012297

MASSACHUSETTS

Worcester County

Academy Street Educational Historic District, 62, 82, and 98 Academy Street; 0 Elm Street; 0 Wallace Way, Fitchburg, SG100012289

MISSISSIPPI

Jefferson County

Hystercine Rankin House, 341 Rankin Road, Lorman vicinity, SG100012287

MISSOURI

St. Louis County

The Van Raalte Residence, 440 Hunter's Hill Drive, Chesterfield, SG100012284

NEBRASKA

Dodge County

St. Charles Borromeo Catholic Church, 740 Locust St., North Bend, SG100012278

NEW JERSEY

Middlesex County

Perth Amboy Public Library, 196 Jefferson Street, Perth Amboy Cty, SG100012279

PENNSYLVANIA

Allegheny County

Pitcairn School #1, (Educational Resources of Pennsylvania MPS), 580-582 Sixth Street (intersection of Sixth Street and Highland Ave.), Pitcairn Borough, MP100012293

SOUTH CAROLINA

Anderson County

Pelzer Community Building, 30 Pelzer Park Street, Pelzer, SG100012300

Greenville County

Earle-Morgan Cabin at Clark's Mountain, 335 Clark's Mountain Road, Landrum vicinity, SG100012294

Lancaster County

Whitfield Hotel, 118 East Marion Street, Kershaw, SG100012299

Laurens County

Owings Historic District, Portions of N Old Laurens Rd., SC Hwy. 14 Quarry Rd., Friendship Church Rd., Bragg Rd., and Depot Rd., Owings, SG100012281

Williamsburg County

Kingstree Historic District (Boundary Increase), (Kingstree MRA), E Mill St., Hampton Ave., N Main St., S Main St., N Academy St., S Academy St., Kingstree, BC100012295

TEXAS

Bexar County

Bellinger, Charles V., House; and Greater Corinth Baptist Church and Community Center, 500-522 S New Braunfels Ave., San Antonio, SG100012298

VIRGINIA

Bedford County

Poplar Forest (Boundary Decrease and Boundary Increase), 1776 Poplar Forest Parkway, Lynchburg vicinity, BC100012286

An owner objection received for the following resource(s):

ARIZONA

Maricopa County

Tal'-Wi-Wi Ranch, 9801 N Litchfield Rd and 9816 N. Litchfield Rd., El Mirage vicinity, RS100011259

Additional documentation has been received for the following resource(s):

CALIFORNIA

Sonoma County

Railroad Square District (Additional Documentation), Bounded by Third, Davis, Wilson, Fifth and Sixth Streets and the Santa Rosa Creek, Santa Rosa, AD79000561

OHIO

Monroe County

Knowlton Covered Bridge (Additional Documentation), N of Rinards Mills on SR 387-A, Rinards Mills vicinity, AD80003165

SOUTH CAROLINA

Williamsburg County

Kingstree Historic District (Additional Documentation), (Kingstree MRA), Main, Hampton and Academy Sts., Kingstree, AD82003906

VIRGINIA

Bedford County

Poplar Forest (Additional Documentation), S of jct. of Rtes. 661 and 460, Lynchburg vicinity, AD69000223

(Authority: Section 60.13 of 36 CFR part 60)

Sherry A. Frear,
Chief, National Register of Historic Places/National Historic Landmarks Program.

[FR Doc. 2025-18802 Filed 9-26-25; 8:45 am]

BILLING CODE 4312-52-P